DEPARTMENT OF COMMERCE

International Trade Administration

[A-570-900]

Diamond Sawblades and Parts Thereof From the People's Republic of China: Preliminary Results of Antidumping Duty Administrative Review; 2015-2016

AGENCY: Enforcement and Compliance, International Trade Administration, Department of Commerce.

SUMMARY: The Department of Commerce (the Department) is conducting an administrative review of the antidumping duty order on diamond sawblades and parts thereof (diamond sawblades) from the People's Republic of China (the PRC). The period of review (POR) is November 1, 2015, through October 31, 2016. The Department has preliminarily determined that certain companies covered by this review made sales of subject merchandise at less than normal value. Interested parties are invited to comment on these preliminary results.

DATES: Applicable December 6, 2017.

FOR FURTHER INFORMATION CONTACT: Yang Jin Chun or Bryan Hansen, AD/CVD Operations, Office I, Enforcement and Compliance, International Trade Administration, U.S. Department of Commerce, 1401 Constitution Avenue NW., Washington, DC 20230; telephone: (202) 482-5760 and (202) 482-3683, respectively.

Scope of the Order

The merchandise subject to the order is diamond sawblades and parts thereof. The diamond sawblades subject to the order are currently classifiable under subheadings 8202 to 8206 of the Harmonized Tariff Schedule of the United States (HTSUS), and may also enter under 6804.21.00. While the HTSUS subheadings are provided for convenience and customs purposes, the written description is dispositive. A full description of the scope of the order is contained in the Preliminary Decision Memorandum.¹

¹ See the Memorandum, “Diamond Sawblades and Parts Thereof from the People's Republic of China: Decision Memorandum for Preliminary Results of Antidumping Duty Administrative Review; 2015-2016,” dated concurrently with and hereby adopted by this notice (Preliminary Decision Memorandum).

Preliminary Determination of No Shipments

Ten companies that received a separate rate in previous segments of the proceeding and are subject to this review reported that they did not have any exports of subject merchandise during the POR.² We requested that CBP report any information contrary to these claims of no shipments.³ To date, we have not received any contrary information from either CBP in response to our inquiry or any other sources that nine of these companies had any shipments of the subject merchandise sold to the United States during the POR.⁴ Further, consistent with our practice, we find that it is not appropriate to rescind the review with respect to these companies but, rather, to complete the review and issue appropriate instructions to CBP based on the final results of review.⁵

² See the February 6, 2017, no-shipment letters from Danyang City Ou Di Ma Tools Co., Ltd., Danyang Like Tools Manufacturing Co., Ltd., Jiangsu Huachang Tools Manufacturing Co., Ltd., Orient Gain International Limited, Qingdao Hyosung Diamond Tools Co., Ltd., and Sino Tools Co., Ltd., the February 7, 2017, no-shipment letter from Qingdao Shinhan Diamond Industrial Co., Ltd., the February 10, 2017, no-shipment letters from Danyang Tsunda Diamond Tools Co., Ltd., and Jiangsu Inter-China Group Corporation, and the February 21, 2017, no-shipment letter from Danyang Hantronic Import & Export Co., Ltd.

³ See CBP message numbers 7167307-7167315 and 7167318 dated June 16, 2017, available at http://adcvd.cbp.dhs.gov/adcvdweb/.

⁴ See Preliminary Decision Memorandum at 3-4 for more explanation. See also the preliminary separate rate denial memorandum for Qingdao Hyosung Diamond Tools Co., Ltd., dated concurrently with this notice for more details containing business proprietary information.

⁵ See, e.g., Wooden Bedroom Furniture from the People's Republic of China: Final Results and Final Rescission, In Part, of Administrative Review and Final Results of New Shipper Review; 2013, 80 FR 34619 (June 17, 2015).

Separate Rates

The Department preliminarily determines that 20 respondents are eligible to receive separate rates in this review.⁶

⁶ See Preliminary Decision Memorandum at 4-8, for more details.

Separate Rates for Eligible Non-Selected Respondents

In accordance with the U.S. Court of Appeals for the Federal Circuit's decision in Albemarle Corp. v. United States,⁷ we assigned to eligible non-selected respondents the separate rate we assigned to Chengdu Huifeng Diamond Tools Co., Ltd.⁸ and the Jiangsu Fengtai Single Entity ⁹ for the preliminary results of this review.¹⁰

⁷ See Albemarle Corp. & Subsidiaries v. United States, 821 F.3d 1345 (Fed. Cir. 2016).

⁸ In a separate changed-circumstances review, we preliminarily found that Chengdu Huifeng New Material Technology Co., Ltd. is the successor-in-interest to Chengdu Huifeng Diamond Tools Co., Ltd.. See Diamond Sawblades and Parts Thereof from the People's Republic of China: Initiation and Preliminary Results of Antidumping Duty Changed Circumstances Review, 82 FR 51605 (November 7, 2017).

⁹ Jiangsu Fengtai Diamond Tool Manufacture Co., Ltd., Jiangsu Fengtai Tools Co., Ltd., and Jiangsu Fengtai Sawing Industry Co., Ltd., comprise the Jiangsu Fengtai Single Entity. See Preliminary Decision Memorandum at 2, n. 5.

¹⁰ See Preliminary Decision Memorandum at 8.

PRC-Wide Entity

The Department's change in policy regarding conditional review of the PRC-wide entity applies to this administrative review.¹¹ Under this policy, the PRC-wide entity will not be under review unless a party specifically requests, or the Department self-initiates, a review of the entity. Because no party requested a review of the PRC-wide entity in this review, the entity is not under review and the entity's rate is not subject to change (i.e., 82.05 percent).¹² Aside from the no-shipments and separate rate companies discussed above, the Department considers all other companies for which a review was requested (which did not file a separate rate application) to be part of the PRC-wide entity.¹³

¹¹ See Antidumping Proceedings: Announcement of Change in Department Practice for Respondent Selection in Antidumping Duty Proceedings and Conditional Review of the Nonmarket Economy Entity in NME Antidumping Duty Proceedings, 78 FR 65963 (November 4, 2013).

¹² See, e.g., Diamond Sawblades and Parts Thereof from the People's Republic of China; Final Results of Antidumping Duty Administrative Review; 2012-2013, 80 FR 32344, 32345 (June 8, 2015).

¹³ See Initiation of Antidumping and Countervailing Duty Administrative Reviews, 81 FR 736, 737 (January 7, 2016) (“All firms listed below that wish to qualify for separate rate status in the administrative reviews involving NME countries must complete, as appropriate, either a separate rate application or certification, as described below.”). Companies that are subject to this administrative review that are considered to be part of the PRC-wide entity are ASHINE Diamond Tools Co., Ltd., Hangzhou Kingburg Import & Export Co., Ltd., Hebei XMF Tools Group Co., Ltd., Henan Huanghe Whirlwind Co., Ltd., Henan Huanghe Whirlwind International Co., Ltd., Hong Kong Hao Xin International Group Limited, Pantos Logistics (HK) Company Limited, and Pujiang Talent Diamond Tools Co., Ltd.

Methodology

The Department conducted this review in accordance with section 751(a)(1)(B) of the Act. Because the PRC is a non-market economy within the meaning of section 771(18) of the Act, normal value was calculated in accordance with section 773(c) of the Act. For Chengdu Huifeng Diamond Tools Co., Ltd., and the Jiangsu Fengtai Single Entity, we assigned each a margin based on adverse facts available (AFA) pursuant to section 776(b) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and to all parties in the Central Records Unit, Room B8024 of the main Department of Commerce building. In addition, a complete version of the Preliminary Decision Memorandum can be accessed directly on the internet at http://enforcement.trade.gov/frn/index.html.

Preliminary Results of Review

The Department preliminarily determines that the following weighted-average dumping margins exist:

Exporter | Margin (percent)
Bosun Tools Co., Ltd | 82.05
Chengdu Huifeng Diamond Tools Co., Ltd | 82.05
Danyang Huachang Diamond Tools Manufacturing Co., Ltd | 82.05
Danyang NYCL Tools Manufacturing Co., Ltd | 82.05
Danyang Weiwang Tools Manufacturing Co., Ltd | 82.05
Guilin Tebon Superhard Material Co., Ltd | 82.05
Hangzhou Deer King Industrial and Trading Co., Ltd | 82.05
Huzhou Gu's Import & Export Co., Ltd | 82.05
Jiangsu Fengtai Single Entity | 82.05
Jiangsu Youhe Tool Manufacturer Co., Ltd | 82.05
Qingyuan Shangtai Diamond Tools Co., Ltd | 82.05
Quanzhou Zhongzhi Diamond Tool Co., Ltd | 82.05
Rizhao Hein Saw Co., Ltd | 82.05
Saint-Gobain Abrasives (Shanghai) Co., Ltd | 82.05
Shanghai Jingquan Industrial Trade Co., Ltd | 82.05
Shanghai Starcraft Tools Company Limited | 82.05
Weihai Xiangguang Mechanical Industrial Co., Ltd | 82.05
Wuhan Wanbang Laser Diamond Tools Co., Ltd ¹⁴ | 82.05
Xiamen ZL Diamond Technology Co., Ltd | 82.05
Zhejiang Wanli Tools Group Co., Ltd | 82.05

Disclosure and Public Comment

Normally, the Department discloses to interested parties the calculations performed in connection with a preliminary results of review within five days after public announcement of the preliminary results of review in accordance with 19 CFR 351.224(b). Because the Department preliminarily applied AFA to both individually examined respondents in this review in accordance with section 776 of the Act, there are no calculations to disclose. Pursuant to 19 CFR 351.309(c), interested parties may submit case briefs no later than 30 days after the date of publication of these preliminary results of review.¹⁵ Parties who submit case briefs or rebuttal briefs in this proceeding are encouraged to submit with each argument: (1) A statement of the issue; (2) a brief summary of the argument; and (3) a table of authorities.¹⁶ Rebuttal briefs, limited to issues raised in the case briefs, may be filed no later than five days after the cases briefs are filed.¹⁷

¹⁴ Wuhan Wanbang Laser Diamond Tools Co., Ltd., is the successor-in-interest to Wuhan Wanbang Laser Diamond Tools Co. See Diamond Sawblades and Parts Thereof from the People's Republic of China: Final Results of Antidumping Duty Changed Circumstances Review, 81 FR 20618 (April 8, 2016).

¹⁵ See 19 CFR 351.309(c).

¹⁶ See 19 CFR 351.309(c)(2).

¹⁷ See 19 CFR 351.309(d).

Interested parties who wish to request a hearing must submit a written request to the Assistant Secretary for Enforcement and Compliance, U.S. Department of Commerce, filed electronically using ACCESS. An electronically filed document must be received successfully in its entirety by the Department's ACCESS by 5:00 p.m. Eastern Time within 30 days after the date of publication of this notice.¹⁸ Hearing requests should contain (1) the party's name, address, and telephone number; (2) the number of participants; and (3) a list of issues to be discussed. Issues raised in the hearing will be limited to those raised in the respective case briefs. Unless extended, the Department intends to issue the final results of this review, including the results of its analysis of issues raised by parties in their comments, within 120 days after the publication of these preliminary results, pursuant to section 751(a)(3)(A) of the Act and 19 CFR 351.213(h)(1).

¹⁸ See 19 CFR 351.310(c).

Assessment Rates

Upon issuing the final results of review, the Department will determine, and CBP shall assess, antidumping duties on all appropriate entries covered by this review.¹⁹ If the preliminary results are unchanged for the final results, we will instruct CBP to apply an ad valorem assessment rate of 82.05 percent to all entries of subject merchandise during the POR which were exported by the aforementioned companies. If the Department determines that an exporter under review had no shipments of the subject merchandise, any suspended entries that entered under that exporter's case number (i.e., at that exporter's rate) will be liquidated at the PRC-wide rate.²⁰ The Department intends to issue appropriate assessment instructions directly to CBP 15 days after publication of the final results of review.

¹⁹ See 19 CFR 351.212(b)(1).

²⁰ See Non-Market Economy Antidumping Proceedings: Assessment of Antidumping Duties, 76 FR 65694, 65695 (October 24, 2011).

Cash Deposit Requirements

The following cash deposit requirements will be effective upon publication of the final results of this administrative review for shipments of the subject merchandise from the PRC entered, or withdrawn from warehouse, for consumption on or after the publication date, as provided by section 751(a)(2)(C) of the Act: (1) For subject merchandise exported by the companies listed above that have separate rates, the cash deposit rate will be that established in the final results of review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice serves as a preliminary reminder to importers of their responsibility under 19 CFR 351.402(f)(2) to file a certificate regarding the reimbursement of antidumping duties prior to liquidation of the relevant entries during this POR. Failure to comply with this requirement could result in the Department's presumption that reimbursement of antidumping duties occurred and the subsequent assessment of doubled antidumping duties.

We are issuing and publishing these results in accordance with sections 751(a)(1) and 777(i)(1) of the Act and 19 CFR 351.213.

Dated: November 30, 2017.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Preliminary Determination of No Shipments

V. Discussion of the Methodology

A. Non-Market Economy Country Status

B. Separate Rates

VI. Application of Facts Available and Adverse Inferences

A. Use of Facts Available

B. Application of Facts Available With an Adverse Inference

C. Selection of the AFA Rate

VII. Recommendation

[FR Doc. 2017-26297 Filed 12-5-17; 8:45 am]

BILLING CODE 3510-DS-P